DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Bycatch Reduction Device Certification Family of Forms.

OMB Control Number: 0648-0345.

Form Number(s): None.

Type of Request: Regular submission.

Burden Hours: 1,775.

Number of Respondents: 32.

Average Hours per Response: Application/vessel information form and gear specification form, 30 minutes; station sheet bycatch reduction device (BRD) evaluation, condition and fate, and length frequency forms and trip report/cover sheet; 1 minute; independent BRD test, 5 minutes.

Needs and Uses: Persons seeking to obtain certification for bycatch reduction devices to be used on shrimp vessels in the Gulf of Mexico or South Atlantic must apply for authorization to conduct tests and submit the test results. The information is needed for NOAA Fisheries Service to determine if the equipment meets the standard that would allow its use in commercial fisheries.

Affected Public: Business or other for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 19, 2008.
Gwellnar Banks,
Management Analyst, Office of the Chief Information Officer.

[FR Doc. E8-14242 Filed 6-23-08; 8:45 am]

BILLING CODE 3510-22-P